DEPARTMENT OF THE TREASURY

Bureau of Engraving and Printing

Proposed Collection; Comment Request

ACTION: Notice and request for comments.

SUMMARY: The Department of the Treasury's Bureau of Engraving and Printing, as part of its continuing effort to reduce paperwork and respondent burden, invites the general public and other Federal agencies to take this opportunity to comment on proposed and/or continuing information collections, as required by the Paperwork Reduction Act of 1995, Pub. L. 104-13 (44 U.S.C. 3506(c)(2)(A)). Currently, the Bureau of Engraving and Printing within the Department of the Treasury is soliciting comments concerning survey research designed to establish benchmark measures of awareness, confidence and behavior relating to the Bureau's NexGen currency program.

DATES: Written comments should be received on or before October 27, 2003 to be assured consideration.

ADDRESSES: Direct all written comments to Department of Treasury, Bureau of Engraving & Printing, Ellen Gano, 14th & C Streets, SW., Washington, DC 20228, (202) 874-1211.

FOR FURTHER INFORMATION CONTACT: Requests for additional information or copies of the form(s) and instructions should be directed to Department of Treasury, Bureau of Engraving & Printing, Pamela Grayson, 14th & C Streets, SW., Washington, DC 20228, (202) 874-2212.

SUPPLEMENTARY INFORMATION: Title: 2004 Series Currency Monitoring and Evaluation Surveys.

Abstract: The Bureau of Engraving and Printing requests approval to survey the public to track and measure changes in public awareness regarding the introduction of redesigned U.S. currency. The survey will be used to measure the extent to which the public has seen and remembers information about the new currency, its key design and authentication features, and to measure confidence in the currency and authentication behavior. The data is required to be collected as part of the assessment process to determine the effectiveness of the public education effort connected to the new currency design.

Current Actions: This is a new collection.

Type of Review: Regular.

Affected Public: The affected public includes all adult (18 or older) members of the U.S. population.

Estimated Number of Respondents: 4,000.

Estimated Total Annual Burden Hours: Estimated number of annual burden hours is 1,000 hours.

Request for Comments: The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

Dated: August 20, 2003.
Pamela V. Grayson,
Management Analyst.

[FR Doc. 03-22135 Filed 8-28-03; 8:45 am]

BILLING CODE 4840-01-P